DEPARTMENT OF TRANSPORTATION

Federal Aviation Administration

[Summary Notice No. PE-2001-06]

Petitions for Exemption; Summary of Petitions Received; Dispositions of Petitions Issued

AGENCY: Federal Aviation Administration (FAA), DOT.

ACTION: Notice of petitions for exemption received and of dispositions of prior petitions.

SUMMARY: Pursuant to FAA's rulemaking provisions governing the application, processing, and disposition of petitions for exemption part 11 of Title 14, Code of Federal Regulations (14 CFR), this notice contains a summary of certain petitions seeking relief from specified requirements of 14 CFR, dispositions of certain petitions previously received, and corrections. The purpose of this notice is to improve the public's awareness of, and participation in, this aspect of FAA's regulatory activities. Neither publication of this notice nor the inclusion or omission of information in the summary is intended to affect the legal status of any petition or its final disposition.

DATES: Comments on petitions received must identify the petition docket number involved and must be received on or before February 12, 2001.

ADDRESSES: Send comments on any petition to the Docket Management System, U.S. Department of Transportation, Room Plaza 401, 400 Seventh Street, SW., Washington, DC 20590-0001. You must identify the docket number FAA-2000-XXXX at the beginning of your comments. If you wish to receive confirmation that FAA received your comments, include a self-addressed, stamped postcard.

You may also submit comments through the Internet to http://dms.dot.gov. You may review the public docket containing the petition, any comments received, and any final disposition in person in the Dockets Office between 9:00 a.m. and 5:00 p.m., Monday through Friday, except Federal holidays. The Dockets Office (telephone 1-800-647-5527) is on the plaza level of the NASSIF Building at the Department of Transportation at the above address. Also, you may review public dockets on the Internet at ­http://dms.dot.gov.

FOR FURTHER INFORMATION CONTACT: Forest Rawls (202) 267-8033, or Vanessa Wilkins (202) 267-8029, Office of Rulemaking (ARM-1), Federal Aviation Administration, 800 Independence Avenue, SW., Washington, DC 20591.

This notice is published pursuant to 14 CFR §§ 11.85 and 11.91.

Issued in Washington, DC, on January 16, 2001.
Donald P. Byrne,
Assistant Chief Counsel for Regulations.

Dispositions of Petitions

Docket No.: FAA-2000-8188.

Petitioner: Direct Air, LLC.

Section of 14 CFR Affected: 14 CFR § 135.143(c)(2).

Description of Relief Sought/Disposition: To permit Direct Air to operate certain aircraft under part 135 without a TSO-C112 (Mode S) transponder installed in the aircraft.

Grant, 12/08/2000, Exemption No. 7399

Docket No.: FAA-2000-8433.

Petitioner: New Air Helicopters.

Section of 14 CFR Affected: 14 CFR § 135.143(c)(2).

Description of Relief Sought/Disposition: To permit NAH to operate certain aircraft under part 135 without a TSO-C112 (Mode S) transponder installed on those aircraft.

Grant, 12/08/2000, Exemption No. 6884A

Docket No.: FAA-2000-8429.

Petitioner: North Star Air Cargo, Inc.

Section of 14 CFR Affected: 14 CFR § 135.143(c)(2).

Description of Relief Sought/Disposition: To permit North Star to operate certain aircraft under part 135 without a TSO-C112 (Mode S) transponder installed on those aircraft.

Grant, 12/08/2000, Exemption No. 6878A

Docket No.: FAA-2000-8432.

Petitioner: Air Vegas, Inc.

Section of 14 CFR Affected: 14 CFR § 135.143(c)(2).

Description of Relief Sought/Disposition: To permit Air Vegas to operate certain aircraft under part 135 without a TSO-C112 (Mode S) transponder installed on those aircraft.

Grant, 12/08/2000, Exemption No. 6588B

Docket No.: FAA-2000-8049.

Petitioner: CareFlite.

Section of 14 CFR Affected: 14 CFR § 135.143(c)(2).

Description of Relief Sought/Disposition: To permit CareFlite to operate certain aircraft under part 135 without a TSO-C112 (Mode S) transponder installed on those aircraft.

Grant, 12/08/2000, Exemption No. 6877A

Docket No.: FAA-2000-8147.

Petitioner: Flight Line Aviation, Inc.

Section of 14 CFR Affected: 14 CFR § 135.143(c)(2).

Description of Relief Sought/Disposition: To permit FLA to operate certain aircraft under part 135 without a TSO-C112 (Mode S) transponder installed on those aircraft.

Grant, 12/08/2000, Exemption No. 6874A

Docket No.: FAA-2000-8000.

Petitioner: Delta Air Lines, Inc.

Section of 14 CFR Affected: 14 CFR § 135.143(c)(1)(ii).

Description of Relief Sought/Disposition: To permit Delta to substitute a qualified and authorized check airman for an FAA inspector when an inspector is not available to accomplish the required observation during the scheduled operating experience flight legs of a qualifying pilot in command (PIC) who is completing initial or upgrade training.

Grant, 12/08/2000, Exemption No. 7376A

Docket No.: FAA-2000-8016.

Petitioner: Adams, Jerry L., et al.

Section of 14 CFR Affected: 14 CFR § 121.383(c).

Description of Relief Sought/Disposition: To permit those individuals to act as pilots in operations conducted under part 121 after reaching their 60th birthdays. Please note that the FAA has assigned a new docket number to this project (FAA-2000-8016; previously Docket No. 30040).

Denial, 12/13/2000, Exemption No. 7405

[FR Doc. 01-1678 Filed 1-19-01; 8:45 am]

BILLING CODE 4910-13-M